DEPARTMENT OF TRANSPORTATION

Maritime Administration

Marine Transportation System National Advisory Council

AGENCY: Maritime Administration, Department of Transportation.

ACTION: Notice of public meeting; Marine Transportation System National Advisory Council.

SUMMARY: The Maritime Administration announces that the Marine Transportation System National Advisory Council (MTSNAC) will hold a meeting to discuss MTS needs, regional MTS outreach initiatives, the West Coast port congestion issue, Council team assignments, and other issues. A public comment period is scheduled for 8:30 a.m. to 9 a.m. on Thursday, May 5, 2005. To provide time for as many people to speak as possible, speaking time for each individual will be limited to three minutes. Members of the public who would like to speak are asked to contact Richard J. Lolich by April 27, 2005. Commenters will be placed on the agenda in the order in which notifications are received. If time allows, additional comments will be permitted. Copies of oral comments must be submitted in writing at the meeting. Additional written comments are welcome and must be filed by May 12, 2005.

DATES: The meeting will be held on Wednesday, May 4, 2005, from 2 p.m. to 5 p.m. and Thursday, May 5, 2005 from 8:30 a.m. to 5 p.m.

ADDRESSES: The meeting will be held in the Radisson Hotel Sacramento, 500 Leisure Lane, Sacramento, CA 95815. The hotel's phone number is (800) 333-3333.

FOR FURTHER INFORMATION CONTACT: Richard Lolich, (202) 366-4357; Maritime Administration, MAR-830, Room 7201, 400 Seventh St., SW., Washington, DC 20590; richard.lolich@marad.dot.gov.

Authority: 49 CFR 1.66

Dated: April 14, 2005.
Joel C. Richard,
Secretary, Maritime Administration.

[FR Doc. 05-7907 Filed 4-19-05; 8:45 am]

BILLING CODE 4910-81-P